DEPARTMENT OF COMMERCE

International Trade Administration

[C-427-819]

Final Results of Expedited Sunset Review: Countervailing Duty Order on Low Enriched Uranium from France

AGENCY: Import Administration, International Trade Administration, Department of Commerce.

SUMMARY: On January 3, 2007, the Department of Commerce (“the Department”) initiated a sunset review of the countervailing duty (“CVD”) order on low enriched uranium (“LEU”) from France, pursuant to section 751(c) of the Tariff Act of 1930, as amended (“the Act”). On the basis of a notice of intent to participate and an adequate substantive response filed on behalf of a domestic interested party and inadequate response from respondent interested parties (in this case, no response), the Department determined to conduct an expedited sunset review of this CVD order pursuant to section 751(c)(3)(B) of the Act and 19 CFR 351.218(e)(1)(ii)(B). As a result of this sunset review, the Department finds that revocation of the CVD order would be likely to lead to continuation or recurrence of a countervailable subsidy at the level indicated in the “Final Results of Review” section of this notice.

EFFECTIVE DATE: May 10, 2007.

FOR FURTHER INFORMATION CONTACT: Kristen Johnson or Brandon Farlander, AD/CVD Operations, Import Administration, International Trade Administration, U.S. Department of Commerce, 14th Street & Constitution Avenue NW, Washington, DC 20230; telephone: (202) 482-4793 or (202) 482-0182, respectively.

SUPPLEMENTARY INFORMATION:

Background

On January 3, 2007, the Department initiated a sunset review of the CVD order on LEU from France pursuant to section 751(c) of the Act. See Initiation of Five-year (“Sunset”) Reviews, 72 FR 100 (January 3, 2007). On January 16, 2007, the Department received a notice of appearance on behalf of Eurodif S.A., a French producer of LEU, and its affiliated companies, including AREVA, an owner of Eurodif, and AREVA NC and AREVA NC, Inc., (collectively, “Eurodif/AREVA”).¹ Eurodif/AREVA is an interested party under section 771(9)(A) of the Act. On January 18, 2007, the Department received a notice of intent to participate on behalf of USEC Inc. and its subsidiary, United States Enrichment Corporation (collectively, “USEC”), a domestic interested party. USEC, a domestic producer of LEU, is an interested party under section 771(9)(C) of the Act.

¹ AREVA was previously known as Compagnie Generale des Matieres Nucleaires (“COGEMA”).

On February 2, 2007, the Department received a complete substantive response from USEC within the 30-day deadline specified in 19 CFR 351.218(d)(3)(i). However, the Department did not receive a substantive response from any government or respondent interested party to this proceeding. As a result, pursuant to section 751(c)(3)(B) of the Act and 19 CFR 351.218(e)(1)(ii)(C)(2), the Department conducted an expedited sunset review of this CVD order.

Scope of the Order

The product covered by this order is all LEU. LEU is enriched uranium hexafluoride (UF6) with a U²³⁵ product assay of less than 20 percent that has not been converted into another chemical form, such as UO2, or fabricated into nuclear fuel assemblies, regardless of the means by which the LEU is produced (including LEU produced through the down-blending of highly enriched uranium).

Certain merchandise is outside the scope of this order. Specifically, this order does not cover enriched uranium hexafluoride with a U²³⁵ assay of 20 percent or greater, also known as highly enriched uranium. In addition, fabricated LEU is not covered by the scope of this order. For purposes of this order, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of this order.

Also excluded from this order is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designated transporter(s) while in U.S. customs territory, and (ii) are re-exported within eighteen (18) months of entry of the LEU for consumption by the end-user in a nuclear reactor outside the United States. Such entries must be accompanied by the certifications of the importer and end user.

The merchandise subject to this order is currently classifiable in the Harmonized Tariff Schedule of the United States (“HTSUS”) at subheading 2844.20.0020. Subject merchandise may also enter under 2844.20.0030, 2844.20.0050, and 2844.40.00. Although the HTSUS subheadings are provided for convenience and customs purposes, the written description of the merchandise is dispositive.

Analysis of Comments Received

All issues raised in this review are addressed in the Issues and Decision Memorandum (“Decision Memorandum”) from Stephen J. Claeys, Deputy Assistant Secretary for Import Administration, to David M. Spooner, Assistant Secretary for Import Administration, dated May 2, 2007, which is hereby adopted by this notice. Parties can find a complete discussion of all issues raised in this review and the corresponding recommendation in this public memorandum which is on file in the Central Records Unit room B-099 of the main Commerce building. In addition, a complete version of the Decision Memorandum can be accessed directly on the Web at http://ia.ita.doc.gov/frn. The paper copy and electronic version of the Decision Memorandum are identical in content.

Final Results of Review

The Department determines that revocation of the CVD order would be likely to lead to continuation or recurrence of a countervailable subsidy at the rates listed below:

Producers/Exporters | Net Countervailable Subsidy (percent)
Eurodif S.A. and AREVA NC | 12.15 ad valorem
All Others | 12.15 ad valorem

Notification Regarding Administrative Protective Order

This notice serves as the only reminder to parties subject to administrative protective order (“APO”) of their responsibility concerning the return or destruction of proprietary information disclosed under APO in accordance with 19 CFR 351.305. Timely notification of return/destruction of APO materials or conversion to judicial protective order is hereby requested. Failure to comply with the regulations and the terms of an APO is a sanctionable violation.

We are issuing and publishing the results and notice are in accordance with sections 751(c), 752, and 777(i)(1) of the Act.

Dated: May 2, 2007.
David M. Spooner,
Assistant Secretary for Import Administration.

[FR Doc. E7-9037 Filed 5-9-07; 8:45 am]

BILLING CODE 3510-DS-S